DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on March 10, 2005. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Contract Services Office, Bureau of Reclamation, PO Box 25007, Denver, Colorado 80225-0007; telephone 303-445-2902.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

The March 10, 2005, notice should be used as a reference point to identify changes. The numbering system in this notice corresponds with the numbering system in the March 10, 2005, notice.

Definitions of Abbreviations Used in This Document

BCP—Boulder Canyon Project

Reclamation—Bureau of Reclamation

CAP—Central Arizona Project

CVP—Central Valley Project

CRSP—Colorado River Storage Project

FR—Federal Register

IDD—Irrigation and Drainage District

ID—Irrigation District

M&I—Municipal and Industrial

NMISC—New Mexico Interstate Stream Commission

O&M—Operation and Maintenance

P-SMBP—Pick-Sloan Missouri Basin Program

PPR—Present Perfected Right

SOD—Safety of Dams

WD—Water District

Pacific Northwest Region: Bureau of Reclamation, 1150 North Curtis Road, Suite 100, Boise, Idaho 83706-1234, telephone 208-378-5344.

The Pacific Northwest Region has no updates to report for this quarter. Please refer to the March 10, 2005, publication of this notice for current contract actions.

Mid-Pacific Region: Bureau of Reclamation, 2800 Cottage Way, Sacramento, California 95825-1898, telephone 916-978-5250.

New contract actions:

37. Broadview WD, CVP, California: Proposed assignment of 27,000 acre-feet of Broadview WD's entire CVP supply to Westlands WD for irrigation and M&I use.

38. Mendota Wildlife Area, CVP, California: Reimbursement agreement between the California Department of Fish and Game and Reclamation for conveyance service costs to deliver Level 2 water to the Mendota Wildlife Area during infrequent periods when the Mendota Pool is down due to unexpected but needed maintenance. This action is taken pursuant to Pub. L. 102-575, Title 34, Section 3406(d)(1), to meet full Level 2 water needs of the Mendota Wildlife Area.

Discontinued contract item:

29. Pajaro Valley Water Management Agency, CVP, California: Proposed assignment of 27,000 acre-feet of Broadview WD's entire CVP supply to Pajaro Valley Water Management Agency for M&I use.

Completed contract action:

2. Contractors from the American River Division, Cross Valley Canal, Delta Division, Friant Division, Sacramento River Division, San Felipe Division, Shasta Division, Trinity River Division, and West San Joaquin Division; CVP; California: Renewal of up to 114 long-term water service contracts; water quantities for these contracts total in excess of 3.4M acre-feet. These contract actions will be accomplished through long-term renewal contracts pursuant to Pub. L. 102-575. Prior to completion of negotiation of long-term renewal contracts, existing interim renewal water service contracts may be renewed through successive interim renewal of contracts. Execution of long-term renewal contracts began in late February 2005. Execution of these contracts will continue through July 2005.

Lower Colorado Region: Bureau of Reclamation, PO Box 61470 (Nevada Highway and Park Street), Boulder City, Nevada 89006-1470, telephone 702-293-8536.

New contract actions:

40. Cibola Valley IDD, BCP, Arizona: Assign 396 acre-feet per year of the district's entitlement to fourth-, fifth-, and sixth-priority water to The Conservation Fund.

41. Golden Shores Water Conservation District, BCP, Arizona: Amend the district's contract to include the water allocation for Topock Village Estates within the district's boundaries.

42. Ronald E. and Shannon L. Williamson, BCP, California: Assign contract No. 6-07-30-W0342 to Kendell Perrett from Ronald E. and Shannon L. Williamson.

Modified contract action:

33. Wellton-Mohawk IDD, BCP, Arizona: Amend contract No. 1-07-30-W0021 to revise the authority to deliver domestic use water from 5,000 to 12,000 acre-feet per calendar year, which is within the district's current overall Colorado River water entitlement.

Completed contract actions:

9. San Tan ID, CAP, Arizona: Amend distribution system repayment contract No. 6-07-30-W0120 to increase the repayment obligation by approximately $168,000. Amendatory contract executed on February 16, 2005.

31. Cibola Valley IDD, BCP, Arizona: Contingent upon completion of sale documents, proposed assignment and transfer of a portion of the district's right to divert up to 24,120 acre-feet of Colorado River water per year to the Mohave County Water Authority, the Hopi Tribe, and Reclamation. Contract was executed on December 14, 2004.

42. Ronald E. and Shannon L. Williamson, BCP, California: Assign contract No. 6-07-30-W0342 to Kendell Perrett from Ronald E. and Shannon L. Williamson. Amendatory contract executed on February 16, 2005.

Upper Colorado Region: Bureau of Reclamation, 125 South State Street, Room 6107, Salt Lake City, Utah 84138-1102, telephone 801-524-3864.

New contract actions:

1.(c) Dry West Nursery, Aspinall Storage Unit, CRSP: Dry West Nursery has requested a 40-year water service contract for 3 acre-feet of water out of Blue Mesa Reservoir. Dry West Nursery has submitted their augmentation plan to Water District 4, Case No. 04CW174.

1.(d) United Companies, Aspinall Storage Unit, CRSP: United Companies has requested 22.0 acre-feet of M&I water out of Blue Mesa Reservoir for four gravel pits.

1.(e) Downy Excavating, Inc., Aspinall Storage Unit, CRSP: Downy Excavating, Inc., has requested a 40-year water service contract for 2 acre-feet of water out of Blue Mesa Reservoir. Downy Excavation has submitted their augmentation plan to Water District 4, Case No. 97CW49.

1.(f) Bowie Resources, LLC, Aspinall Storage Unit, CRSP: Bowie Resources, LLC has requested a 40-year water service contract for 105 acre-feet of water out of Blue Mesa Reservoir. Bowie Resources has submitted their augmentation plan to Water District 4, Case No. 02CW77.

29. Carbon Water Conservancy District, Scofield Project, Utah: Contract providing for the district to repay to the United States 15 percent of the cost of SOD modifications to the spillway at Scofield Dam.

30. Weber River Water Users Association, Weber River Project, Utah: Contract providing for the association to repay to the United States 15 percent of the cost of SOD modifications at Echo Dam.

31. Central Utah Project, Utah. Petition for project water among the United States, the Central Utah Water Conservancy District, and the Duchesne County Water Conservancy District for use of 3,000 acre-feet of irrigation water from the Bonneville Unit of the Central Utah Project.

Modified contract action:

10. Pine River ID, Pine River Project, Colorado: Contract to allow the district to convert project irrigation water to municipal, domestic, and industrial uses.

Great Plains Region: Bureau of Reclamation, PO Box 36900, Federal Building, 316 North 26th Street, Billings, Montana 59107-6900, telephone 406-247-7752.

New contract actions:

45. Belle Fourche ID, Belle Fourche Project, P-SMBP, South Dakota: Temporary contract for a supplemental water supply from Keyhole Reservoir.

46. Buford-Trenton ID, P-SMBP, North Dakota: Amend existing power contract to provide for increase in project use pumping power rate of delivery and enter new repayment and power contract for additional project use pumping power for project purposes in irrigating bench lands existing within the district.

47. East Bench ID, East Bench Unit, P-SMBP, Montana: The district requested a deferment of its 2005 distribution works repayment obligation. A request is being prepared to amend Contract No. 14-06-600-3593 to defer payments in accordance with the Act of September 21, 1959.

48. ExxonMobil Corporation, Ruedi Reservoir, Fryingpan-Arkansas Project, Colorado: Consideration of ExxonMobil Corporation's request to amend its Ruedi Round I contract to include additional uses for the water.

49. Frenchman Valley ID; Frenchman Unit, Frenchman-Cambridge Division, P-SMBP; Culbertson, Nebraska: The district requested a deferment of its 2005 repayment and reserve fund obligations in accordance with the Act of September 21, 1959.

50. Kansas-Bostwick ID No. 2; Courtland Unit, Bostwick Division, P-SMBP; Courtland, Kansas: The district requested a deferment of its 2005 repayment and water service obligations in accordance with the Act of September 21, 1959.

Discontinued contract action:

37. City of Huron, P-SMBP, South Dakota: Renewal of long-term operation, maintenance, and replacement agreement for O&M of the James Diversion Dam, South Dakota, with the City of Huron, South Dakota, or negotiation of water service and O&M with other interested, but as of yet, unidentified entity.

Completed contract actions:

13. Sisk Ranch, Inc., Lower Marias Unit, P-SMBP, Montana: Initiating a long-term contract for up to 552 acre-feet of storage water from Tiber Reservoir to irrigate 276 acres. Temporary contracts have been issued to allow continued delivery of water. A new 40-year water service contract was executed on December 13, 2004.

14. I.J. Peterson Ranch, Inc., Lower Marias Unit, P-SMBP, Montana: Initiating a long-term contract for up to 478 acre-feet of storage water from Tiber Reservoir to irrigate 239 acres. Temporary contracts have been issued to allow continued delivery of water. A new 40-year water service contract was executed on December 13, 2004.

22. Helena Valley Unit, P-SMBP, Montana: Negotiating with Helena Valley ID for renewal of Part A of the A/B contract which expired December 31, 2004. A new 40-year repayment contract was executed on December 28, 2004.

23. Crow Creek Unit, P-SMBP, Montana: Negotiating with Toston ID for renewal of Part A of the A/B contract which expired December 31, 2004. A new 40-year repayment contract was executed on December 30, 2004.

27. Tiber Enterprises, Inc., Lower Marias Unit, P-SMBP, Montana: Initiating a long-term contract for up to 1,388 acre-feet of storage water from Tiber Reservoir to irrigate 694 acres. Temporary contracts have been issued to allow continued delivery of water. A new 40-year water service contract was executed on December 13, 2004.

28. Helena Valley Unit, P-SMBP, Montana: Initiating negotiations for contract renewal for an annual supply of water for domestic and M&I use to the City of Helena, Montana. A new 40-year water service contract was executed on December 29, 2004.

Dated: March 18, 2005.
Roseann Gonzales,
Director, Office of Program and Policy Services.

[FR Doc. 05-7789 Filed 4-18-05; 8:45 am]

BILLING CODE 4310-MN-P